DEPARTMENT OF HEALTH AND HUMAN SERVICES

Health Information Technology Advisory Committee Schedule of Meetings

AGENCY: Office of the National Coordinator for Health Information Technology (ONC), HHS.

ACTION: Notice of meetings.

SUMMARY: The Health Information Technology Advisory Committee (HITAC) was established in accordance with the 21st Century Cures Act and the Federal Advisory Committee Act. The HITAC, among other things, identifies priorities for standards adoption and makes recommendations to the National Coordinator for Health Information Technology (National Coordinator). The HITAC will hold public meetings for the remainder of 2023 and throughout 2024. See list of public meetings below.

FOR FURTHER INFORMATION CONTACT: Michael Berry, Designated Federal Officer, at Michael.Berry@hhs.gov, (202) 701-0795.

SUPPLEMENTARY INFORMATION: Section 4003(e) of the 21st Century Cures Act (Pub. L. 114-255) establishes the Health Information Technology Advisory Committee (referred to as the “HITAC”). The HITAC will be governed by the provisions of the Federal Advisory Committee Act (FACA) (Pub. L. 92-463), as amended, (5 U.S.C. app.), which sets forth standards for the formation and use of federal advisory committees.

Composition: The HITAC is comprised of at least 25 members, of which:

• No fewer than 2 members are advocates for patients or consumers of health information technology;

• 3 members are appointed by the HHS Secretary

○ 1 of whom shall be appointed to represent the Department of Health and Human Services and

○ 1 of whom shall be a public health official;

• 2 members are appointed by the majority leader of the Senate;

• 2 members are appointed by the minority leader of the Senate;

• 2 members are appointed by the Speaker of the House of Representatives;

• 2 members are appointed by the minority leader of the House of Representatives;

• Other members are appointed by the Comptroller General of the United States.

Members serve for one-, two-, or three-year terms. All members may be reappointed for a subsequent three-year term. Each member is limited to two three-year terms, not to exceed six years of service. Members serve without pay but will be provided per-diem and travel costs for committee services, if warranted.

Recommendations: The HITAC recommendations to the National Coordinator are publicly available at https://www.healthit.gov/topic/federal-advisory-committees/recommendations-national-coordinator-health-it.

Public Meetings: All HITAC meetings will be virtual. Please note that some HITAC meetings may also have an in-person meeting option. For web conference instructions and the most up-to-date information, including in-person meeting location (if applicable), please visit the HITAC calendar on the ONC website, www.healthit.gov/topic/federal-advisory-committees/hitac-calendar.

The schedule of remaining meetings to be held in 2023 and throughout 2024 is as follows:

• November 9, 2023, from approximately 9:30 a.m. to 4:00 p.m./Eastern Time (virtual and in-person meeting options, address: Hubert H. Humphrey Federal Building, 200 Independence Ave SW, Washington, DC 20201)

• January 18, 2024, from approximately 10:00 a.m. to 3:00 p.m./Eastern Time

• February 8, 2024, from approximately 10:00 a.m. to 3:00 p.m./Eastern Time

• March 7, 2024, from approximately 10:00 a.m. to 3:00 p.m./Eastern Time

• April 11, 2024, from approximately 10:00 a.m. to 3:00 p.m./Eastern Time

• May 16, 2024, from approximately 10:00 a.m. to 3:00 p.m./Eastern Time

• June 13, 2024, from approximately 10:00 a.m. to 3:00 p.m./Eastern Time

• July 11, 2024, from approximately 10:00 a.m. to 3:00 p.m./Eastern Time

• August 15, 2024, from approximately 10:00 a.m. to 3:00 p.m./Eastern Time

• September 12, 2024, from approximately 10:00 a.m. to 3:00 p.m./Eastern Time

• October 17, 2024, from approximately 10:00 a.m. to 3:00 p.m./Eastern Time

• November 7, 2024, from approximately 10:00 a.m. to 3:00 p.m./Eastern Time

All meetings are open to the public. Additional meetings may be scheduled as needed.

Contact Person for Meetings: Michael Berry, Michael.Berry@hhs.gov. A notice in the Federal Register about last minute modifications that impact a previously announced advisory committee meeting cannot always be published quickly enough to provide timely notice. Please email Michael Berry for the most current information about meetings.

Agenda: As outlined in the 21st Century Cures Act, the HITAC will develop and submit recommendations to the National Coordinator on the topics of interoperability, privacy and security, patient access, and use of technologies that support public health. In addition, the committee will also address any administrative matters and hear periodic reports from ONC. ONC intends to make background material available to the public no later than 24 hours prior to the meeting start time. If ONC is unable to post the background material on its website prior to the meeting, the material will be made publicly available on ONC's website after the meeting, at www.healthit.gov/hitac.

Procedure: Interested persons may present data, information, or views, orally or in writing, on issues pending before the committee. Written submissions may be made to the contact person prior to the meeting date. An oral public comment period will be scheduled at each meeting. Time allotted for each commenter will be limited to three minutes. If the number of speakers requesting to comment is greater than can be reasonably accommodated during the scheduled public comment period, ONC will take written comments after the meeting.

ONC welcomes the attendance of the public at its HITAC meetings. If you require special accommodations due to a disability, please contact Michael Berry at least seven (7) days in advance of the meeting.

Notice of these meetings are given under the Federal Advisory Committee Act (Pub. L. 92-463, 5 U.S.C., app. 2).

Dated: October 16, 2023.
Michael Berry,
Designated Federal Officer, Office of the National Coordinator for Health Information Technology.

[FR Doc. 2023-23762 Filed 10-26-23; 8:45 am]

BILLING CODE 4150-45-P